DEPARTMENT OF COMMERCE

International Trade Administration

[A-583-838]

Notice of Amended Final Determination of Sales at Less-Than-Fair-Value: Structural Steel Beams from Taiwan

AGENCY: Import Administration, International Trade Administration, Department of Commerce.

EFFECTIVE DATE: June 12, 2002.

FOR FURTHER INFORMATION CONTACT: Kate Johnson or Rebecca Trainor, AD/CVD Enforcement Group I, Office 2, Import Administration, International Trade Administration, U.S. Department of Commerce, 14th Street and Constitution Avenue, NW, Washington, DC 20230; telephone (202) 482-4929 or (202) 482-4007, respectively.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (2001).

Scope of the Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors, or attachments to I-sections, H-sections, or pilings; however, if the only additional weldment, connector or attachment on the beam is a shipping brace attached to maintain stability during transportation, the beam is not removed from the scope definition by reason of such additional weldment, connector, or attachment.

The merchandise subject to this investigation is classified in the Harmonized Tariff Schedule of the United States (“HTSUS”) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Amendment to Final Determination

In accordance with section 735(a) of the Act, on May 20, 2002, the Department published the final determination in the less-than-fair-value (LTFV) investigation on structural steel beams from Taiwan. See Notice of Final Determination of Sales at Less Than Fair Value: Structural Steel Beams from Taiwan, 67 FR 35484. On May 24, 2002, respondent Kuei Yi Industrial Co., Ltd. (Kuei Yi) alleged that the Department made a ministerial error in the final margin calculation for that company by failing to convert one type of bank charge to U.S. dollars. For further discussion of this ministerial error, see the memorandum to Louis Apple from the Team, dated June XX, 2002, on file in room B-099 of the main Commerce Department Building. We agree with Kuei Yi. Therefore, in accordance with 19 CFR 351.224(e), we are amending the final determination in the LTFV investigation on structural steel beams from Taiwan. The revised weighted-average dumping margins are as follows:

Exporter/Manufacturer | Original Final Margin Percentage | Revised Final Margin Percentage
Kuei Yi Industrial Co., Ltd. | 15.32 | 13.11
Tung Ho Steel Enterprise Corp. | 5.21 | 5.21
All Others | 12.24 | 10.70

Suspension of Liquidation

In accordance with section 735(c)(1)(B) of the Act, we are directing the United States Customs Service (``Customs'') to continue suspending liquidation on all imports of the subject merchandise from Taiwan. Customs shall require a cash deposit or the posting of a bond equal to the weighted-average amount by which normal value exceeds the export price as indicated in the chart above. These suspension-of-liquidation instructions will remain in effect until further notice.

International Trade Commission Notification

In accordance with section 735(d) of the Act, we have notified the International Trade Commission of our amended final determination.

This investigation and notice are in accordance with sections 735(d) and 777(i)(1) of the Act.

Dated: June 6, 2002
Faryar Shirzad,
Assistant Secretary for Import Administration.

[FR Doc. 02-14831 Filed 6-11-02; 8:45 am]

BILLING CODE 3510-DS-S